INTERNATIONAL TRADE COMMISSION

[USITC SE-05-041]

Sunshine Act Meeting

Agency Holding the Meeting: International Trade Commission.

Time and Date: November 30, 2005 at 11 a.m.

Place: Room 101, 500 E Street, SW., Washington, DC 20436, Telephone: (202) 205-2000.

Status: Open to the public.

Matters to be Considered:

1. Agenda for future meetings: None.

2. Minutes.

3. Ratification List.

4. Inv. Nos. 731-TA-385 and 386 (Second Review) (Granular Polytetrafluoroethylene (PTFE) Resin from Italy and Japan)—briefing and vote. (The Commission is currently scheduled to transmit its determination and Commissioners' opinions to the Secretary of Commerce on or before December 13, 2005.)

5. Outstanding action jackets: None.

In accordance with Commission policy, subject matter listed above, not disposed of at the scheduled meeting, may be carried over to the agenda of the following meeting.

By order of the Commission.
Issued: November 14, 2005.
Marilyn R. Abbott,
Secretary to the Commission.

[FR Doc. 05-22899 Filed 11-15-05; 4:05 pm]

BILLING CODE 7020-02-P